DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NMFS Alaska Region Bering Sea and Aleutian Islands Crab Economic Data Reports.

OMB Approval Number: 0648-0518.

Form Number(s): None.

Type of Request: Regular submission.

Burden Hours: 1,478.

Number of Respondents: 131.

Average Hours Per Response: Annual catcher vessel report: 7 hours, 30 minutes; annual catcher/process report: 12 hours, 30 minutes; Annual stationary floating crab processor and shoreside processor reports, 10 hours; verification of data, 2 hours.

Needs and Uses: The National Marine Fisheries Service (NMFS) manages the crab fisheries in the waters off the coast of Alaska under the Fishery Management Plan for Bering Sea and Aleutian Islands Crab (FMP). The Crab Rationalization Program (CR Program) allocates Bering Sea and Aleutian Islands crab resources among harvesters, processors, and coastal communities. This collection-of-information addresses the CR Program's mandatory economic data collection reports (EDRs). The EDR data is used to assess the efficacy of the CR Program.

Affected Public: Not-for-profit institutions; State, Local or Tribal Government.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: February 12, 2008.
Gwellnar Banks,
Management Analyst, Office of the Chief Information Officer.

[FR Doc. E8-2928 Filed 2-14-08; 8:45 am]

BILLING CODE 3510-22-P